DEPARTMENT OF THE INTERIOR

National Park Service

National Register of Historic Places; Notification of Pending Nominations and Related Actions

Nominations for the following properties being considered for listing or related actions in the National Register were received by the National Park Service before September 20, 2008. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by October 22, 2008.

J. Paul Loether,
Chief, National Register of Historic Places/National Historic Landmarks Program.

ARIZONA

Cochise County

Chiricahua National Monument Historic Designed Landscape, (Historic Park Landscapes in National and State Parks MPS) 12856 E. Rhyolite Canyon Rd., Willcox, 08001020

COLORADO

Weld County

Clubhouse—Student Union, (New Deal Resources on Colorado's Eastern Plains MPS) Between 18th & 19th Sts., & 8th & 10th Aves., Greeley, 08001021

LOUISIANA

Assumption Parish

LaBarre House, 4371 LA 1, Napoleonville, 08001019

MARYLAND

Montgomery County

Krieger, Seymour, House, 9739 Brigadoon Dr., Bethesda, 08001022

MISSOURI

Greene County

Ambassador Apartments, (Springfield MPS) 1235 E. Elm St., Springfield, 08001023

Jasper County

Inter-State Grocer Company Building, (Historic Resources of Joplin, Missouri) 1027-1035 S. Main St., Joplin, 08001024

St. Louis Independent City

Farm and Home Savings and Loan Association, 1001 Locust St., St. Louis (Independent City), 08001025

WASHINGTON

Pierce County

McChord Field Historic District, McChord AFB, Tacoma, 08001026

A request for removal has been made for the following resource:

SOUTH DAKOTA

McPherson County

Leola Post Office, 741 Sherman St., Leola, 05000627

[FR Doc. E8-23663 Filed 10-6-08; 8:45 am]

BILLING CODE 4312-51-P